DEPARTMENT OF COMMERCE

National Oceanic and Atmospheric Administration

[I.D. 122700D]

North Pacific Fishery Management Council; Teleconference

AGENCY: National Marine Fisheries Service (NMFS), National Oceanic and Atmospheric Administration (NOAA), Commerce.

ACTION: Notice of plan team teleconference.

SUMMARY: The North Pacific Fishery Management Council’s (Council) Bering Sea/Aleutian Islands King and Tanner Crab Plan Team will hold a teleconference.

DATES: The teleconference will begin at 1 p.m., Alaska Time, on Thursday, January 25, 2001.

ADDRESSES: The teleconference will be held at the North Pacific Fishery Management Council, 605 W. 4th Ave., Suite 306, Anchorage, AK 99501-2252.

FOR FURTHER INFORMATION CONTACT: David Witherell, NPFMC, 907-271-2809.

SUPPLEMENTARY INFORMATION: The Plan Team will review bycatch amounts of C. opilio taken inside and outside the C. opilio Bycatch Limitation Zone (COBLZ) and prepare recommendations for the Council regarding overall bycatch limits, as well as accounting for crabs taken outside the COBLZ, and whether or not they should accrue toward the bycatch limit that triggers closure of the COBLZ.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: December 28, 2000.
Valerie Chambers,
Acting Director, Office of Sustainable Fisheries, National Marine Fisheries Service.

[FR Doc. 01-208 Filed 1-3-00; 8:45 am]

BILLING CODE 3510-22-S